DEPARTMENT OF HOMELAND SECURITY

Coast Guard

33 CFR Part 165

[Docket No. USCG-2008-0755]

RIN 1625-AA00

Temporary Safety Zone: LST-1166 Safety Zone, Southeastern Tip of Lord Island, Columbia River, Rainier, OR

AGENCY: Coast Guard, DHS.

ACTION: Temporary final rule.

SUMMARY: The Coast Guard is establishing a temporary safety zone on the waters of the Columbia River encompassed in a 500 foot radius surrounding LST-1166, which is a vessel located near the southeastern tip of Lord Island at position 46°07′18″ N 123°00′51″ W adjacent to the Oregon shoreline. Entry into this safety zone is prohibited unless authorized by the Captain of the Port, Portland, Oregon or his designated representatives. The Captain of the Port is taking this action to help ensure the safety of the maritime public as well as the individuals conducting oil and hazardous material clean-up operations on LST-1166.

DATES: This rule is effective from 1 p.m. on October 03, 2008 until 8 p.m. on December 15, 2008.

ADDRESSES: Documents indicated in this preamble as being available in the docket are part of docket USCG-2008-0755 and are available online by going to http://www.regulations.gov, selecting the Advanced Docket Search option on the right side of the screen, inserting USCG-2008-0755 in the Docket ID box, pressing Enter, and then clicking on the item in the Docket ID column. They are also available for inspection or copying two locations: the Docket Management Facility (M-30), U.S. Department of Transportation, West Building Ground Floor, Room W12-140, 1200 New Jersey Avenue, SE., Washington, DC 20590, between 9 a.m. and 5 p.m., Monday through Friday, except Federal holidays, and Coast Guard Sector Portland, 6767 N. Basin Ave., Portland, OR 97217, between 8 a.m. and 4 p.m., Monday through Friday, except Federal holidays.

FOR FURTHER INFORMATION CONTACT: If you have questions on this temporary rule, call BM2 Joshua Lehner, Coast Guard Sector Portland, at (503) 240-9311. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because it would be contrary to the public interest to do so since the safety zone is immediately necessary to ensure the safety of the maritime public and individuals conducting oil and hazardous material clean-up operations on LST-1166 as current clean-up operations continue.

Under 5 U.S.C. 553(d)(3), the Coast Guard finds that good cause exists for making this rule effective less than 30 days after publication in the Federal Register because it would be contrary to the public interest to do so since the safety zone is immediately necessary to ensure the safety of the maritime public and individuals conducting oil and hazardous material clean-up operations on LST-1166 as current clean-up operations continue.

Background and Purpose

LST-1166 is currently undergoing intensive clean-up operations to remove oil and hazardous wastes from the vessel. The safety zone established by this rule is necessary to help ensure the safety of the maritime public from exposure to any oil and hazardous materials that may escape from the confines of the vessel as well as the individuals conducting the clean-up operations from maritime traffic operating in the area. The safety zone will help ensure the safety of the maritime public and the individuals conducting the clean-up operations on LST-1166 by prohibiting maritime traffic from coming closer than 500 feet from the vessel.

Discussion of Rule

This rule establishes a temporary safety zone on the waters of the Columbia River encompassed in a 500 foot radius surrounding LST-1166, which is a vessel located near the southeastern tip of Lord Island at posi tion 46°07′18″ N 123°00′51″ W adjacent to the Oregon shoreline. Entry into this safety zone is prohibited unless authorized by the Captain of the Port, Portland, Oregon or his designated representatives. The rule is effective from 1 p.m. on October 03, 2008 until 8 p.m. on December 15, 2008.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. Specifically, the economic impact of this rule will be negligible because the safety zone is only temporary in nature and the size of the safety zone is small enough to allow mariners to transit on the river without entering the safety zone.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit the area covered by the safety zone created by this rule. The rule will not have a substantial impact on such entities, however, because the safety zone is only temporary in nature and the size of the safety zone is small enough to allow mariners to transit on the river without entering the safety zone.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 5100.1 and Commandant Instruction M16475.lD, which guide the Coast Guard in complying with the National Environmental Policy Act of 1969 (NEPA) (42 U.S.C. 4321-4370f), and have concluded under the Instruction that there are no factors in this case that would limit the use of a categorical exclusion under section 2.B.2 of the Instruction. Therefore, this rule is categorically excluded, under figure 2-1, paragraph (34)(g), of the Instruction, from further environmental documentation because it only establishes a safety zone. A final “Environmental Analysis Check List” and a final “Categorical Exclusion Determination” will be available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, 160.5; Public Law 107-295, 116 Stat. 2064; Department of Homeland Security Delegation No. 0170.1.

2. Add temporary § 165.T13-060A to read as follows:

165.T13-060A Safety Zone; LST-1166 Safety Zone, Southeastern Tip of Lord Island, Columbia River, Rainier, OR.

(a) Safety Zone. The following area is designated a safety zone: The waters of the Columbia River encompassed within a 500 foot radius surrounding the vessel LST-1166 located at position 46°07′18″ N 123°00′51″ W.

(b) Enforcement Date and Time. The safety zone established in paragraph (a) will be enforced from 1 p.m. on October 3, 2008 until 8 p.m. on December 15, 2008.

(c) Regulations. In accordance with the general regulations in Section 165.23 of this part, no person or vessel may enter or remain in the safety zone established in paragraph (a) unless authorized by the Captain of the Port, Portland, Oregon, or his designated representatives. Vessels and/or persons granted authorization to enter the safety zone shall obey all lawful orders and directions of the Captain of the Port, Portland, Oregon, or his designated representatives. Vessels and/or persons wishing to request permission to enter the safety zone must contact the Coast Guard representatives on scene with LST-1166 via VHF Channel 16 or by calling 503-240-9311 or the Fred Devine Diving & Salvage Co. escort vessel on VHF Channel 16.

Dated: October 3, 2008.
Russell C. Proctor,
Commander, U.S. Coast Guard, Alternate Captain of the Port, Portland, Oregon.

[FR Doc. E8-25521 Filed 10-24-08; 8:45 am]

BILLING CODE 4910-15-P